DEPARTMENT OF COMMERCE

Bureau of Industry and Security

15 CFR Part 748

Applications (Classification, Advisory, and License) and Documentation

CFR Correction

In Title 15 of the Code of Federal Regulations, Parts 300 to 799, revised as of April 1, 2012, on page 459, in Supplement 7 to part 748, in the fourth column of the table, the two entries for “National Semiconductor Hong Kong Limited” are removed.

[FR Doc. 2012-13246 Filed 5-30-12; 8:45 am]

BILLING CODE 1505-01-D